DEPARTMENT OF THE INTERIOR

[FWS-R4-ES-2019-N069; FVHC98220410150-XXX-FF04H00000]

Deepwater Horizon Oil Spill 2019 Draft Supplemental Restoration Plan; Mississippi Trustee Implementation Group

AGENCY: Department of the Interior.

ACTION: Notice of availability; request for public comments.

SUMMARY: In accordance with the Oil Pollution Act of 1990 (OPA), the National Environmental Policy Act (NEPA), the Deepwater Horizon Oil Spill Final Programmatic Damage Assessment and Restoration Plan and Final Programmatic Environmental Impact Statement (Final PDARP/PEIS), Record of Decision, and Consent Decree, the Federal and State natural resource trustee agencies for the Mississippi Trustee Implementation Group (Mississippi TIG) have prepared a Mississippi Trustee Implementation Group 2019 Draft Supplemental Restoration Plan: Grand Bay Land Acquisition and Habitat Management (SRP) to evaluate funding additional land acquisition from willing sellers and habitat management within the Grand Bay Land Acquisition and Habitat Management project (Grand Bay Project) footprint. The Mississippi TIG originally evaluated and selected the Grand Bay Project as part of the Mississippi Trustee Implementation Group 2016-2017 Restoration Plan/Environmental Assessment (2016-2017 RP/EA). The SRP provides for an additional $10,000,000 for the Grand Bay Project. The Grand Bay Project would continue the process of conserving and restoring wetlands, coastal, and nearshore habitats injured as a result of the Deepwater Horizon oil spill, which occurred on or about April 20, 2010, in the Gulf of Mexico. We invite comments on the draft SRP.

DATES: Submitting Comments: You must submit comments on the draft SRP on or before August 1, 2019.

ADDRESSES: Obtaining Documents: You may download the draft SRP from any of the following websites:

• http://www.gulfspillrestoration.noaa.gov.

• https://www.doi.gov/deepwaterhorizon/adminrecord.

Alternatively, you may request a CD of the SRP (see FOR FURTHER INFORMATION CONTACT).

Submitting Comments: You may submit comments on the draft SRP by one of the following methods:

• Via the Web: http://www.gulfspillrestoration.noaa.gov/restoration-areas/mississippi.

• Via U.S. Mail: U.S. Fish and Wildlife Service, P.O. Box 29649, Atlanta, GA 30345. In order to be considered, mailed comments must be postmarked on or before the comment deadline given in DATES.

FOR FURTHER INFORMATION CONTACT: Nanciann Regalado, via email at nanciann_regalado@fws.gov, via telephone at 678-296-6805, or via the Federal Relay Service at 800-877-8339.

SUPPLEMENTARY INFORMATION:

Introduction

In accordance with the Oil Pollution Act of 1990 (OPA), the National Environmental Policy Act (NEPA), the Final PDARP/PEIS, Record of Decision, and Consent Decree, the Federal and State natural resource trustee agencies for the Mississippi TIG have prepared a SRP to evaluate funding additional land acquisition from willing sellers and habitat management within the Grand Bay Land Acquisition and Habitat Management project (Grand Bay Project) footprint. The Mississippi TIG originally evaluated and selected the Grand Bay Project as part of the 2016-2017 RP/EA. The SRP provides for an additional $10,000,000 for the Grand Bay Project. The Grand Bay Project would continue the process of conserving and restoring wetlands, coastal, and nearshore habitats injured as a result of the Deepwater Horizon oil spill, which occurred on or about April 20, 2010, in the Gulf of Mexico.

The Mississippi TIG evaluated and selected several restoration projects from a reasonable range of alternatives described in the 2016-2017 RP/EA. Projects selected for implementation include the Grand Bay Project. As described in Section 3.4 of the 2016-2017 RP/EA, the Mississippi TIG allocated $6 million to initiate the acquisition and to commence management in nearshore coastal and wetland habitats within the Grand Bay Project boundary, which includes the acquisition boundaries of the Grand Bay National Wildlife Refuge (Refuge), the Grand Bay National Estuarine Research Reserve (NERR), and the Grand Bay Savanna Coastal Preserve (Preserve). The final 2016-2017 RP/EA can be found at https://www.gulfspillrestoration.noaa.gov/2017/07/mississippi-trustee-implementation-group-releases-first-restoration-plan.

Background

On April 20, 2010, the mobile offshore drilling unit Deepwater Horizon, which was being used to drill a well for BP Exploration and Production, Inc. (BP), in the Macondo prospect (Mississippi Canyon 252—MC252), experienced a significant explosion, fire, and subsequent sinking in the Gulf of Mexico, resulting in an unprecedented volume of oil and other discharges from the rig and from the wellhead on the seabed. The Deepwater Horizon oil spill is the largest oil spill in U.S. history, discharging millions of barrels of oil over a period of 87 days. In addition, well over 1 million gallons of dispersants were applied to the waters of the spill area in an attempt to disperse the spilled oil. An undetermined amount of natural gas was also released into the environment as a result of the spill.

The Trustees conducted the natural resource damage assessment (NRDA) for the Deepwater Horizon oil spill under the Oil Pollution Act 1990 (OPA; 33 U.S.C. 2701 et seq.). Pursuant to OPA, Federal and State agencies act as trustees on behalf of the public to assess natural resource injuries and losses and to determine the actions required to compensate the public for those injuries and losses. The OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete.

The Deepwater Horizon Trustees are:

• U.S. Department of the Interior (DOI), as represented by the National Park Service,

U.S. Fish and Wildlife Service, and Bureau of Land Management;

• National Oceanic and Atmospheric Administration (NOAA), on behalf of the U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality (MDEQ);

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

On April 4, 2016, the United States District Court for the Eastern District of Louisiana entered a Consent Decree resolving civil claims by the DWH oil spill trustees against BP Exploration and Production Inc. (BP) arising from the DWH oil spill: United States v. BPXP et al., Civ. No. 10-4536, centralized in MDL 2179, In re: Oil Spill by the Oil Rig “Deepwater Horizon” in the Gulf of Mexico, on April 20, 2010 (E.D. La.) (http://www.justice.gov/enrd/deepwater-horizon). Pursuant to that Consent Decree, restoration projects in Mississippi are now selected and implemented by the Mississippi TIG. The Mississippi TIG is composed of one State and four Federal Trustees: MDEQ, DOI, NOAA, USDA, and EPA.

Overview of the Mississippi TIG SRP

The SRP is being released in accordance with OPA NRDA regulations found in the Code of Federal Regulations (CFR) at 15 CFR part 990, NEPA, the Consent Decree, and the Final PDARP/PEIS.

The MS TIG proposes to allocate an additional $10 million in funding in this Draft SRP to support further acquisition and/or habitat management and project success monitoring within the boundary of the Grand Bay Project originally selected in the 2016-2017 RP/EA.

The proposal is intended to continue the process of using Deepwater Horizon restoration funding to restore natural resources injured or lost as a result of the Deepwater Horizon oil spill. Details are provided in the SRP. Additional restoration planning for the Mississippi Restoration Area will continue.

Next Steps

After the public comment period ends, the Trustees will consider and address the comments received before issuing a final SRP.

Public Availability of Comments

Before including your address, phone number, email address, or other personal identifying information in your comment, you should be aware that your entire comment—including your personal identifying information—may be made publicly available at any time. While you can ask us in your comment to withhold your personal identifying information from public review, we cannot guarantee that we will be able to do so.

Administrative Record

The documents comprising the Administrative Record for this SRP can be viewed electronically at https://www.doi.gov/deepwaterhorizon/adminrecord.

Authority

The authority of this action is the Oil Pollution Act of 1990 (33 U.S.C. 2701 et seq.) and its implementing Natural Resource Damage Assessment regulations found at 15 CFR part 990 and the National Environmental Policy Act of 1969 (42 U.S.C. 4321 et seq.).

Mary Josie Blanchard,
Department of the Interior, Director of Gulf of Mexico Restoration.

[FR Doc. 2019-14074 Filed 7-1-19; 8:45 am]

BILLING CODE 4333-15-P